DEPARTMENT OF HEALTH AND HUMAN SERVICES

Administration for Children and Families

Proposed Information Collection Activity: Comment Request

Title: Personal Responsibility Education Program (PREP) Multi-Component Evaluation.

OMB No.: New collection.

Description: The Family Youth Services Bureau (HHS/ACF/ACYF/FYSB) and the Office of Planning Research and Evaluation (HHS/ACF/OPRE) in the Administration for Children and Families (ACF) are proposing three data collection activities to be undertaken for the Personal Responsibility Education Program (PREP) Multi-Component Evaluation.

The impact study included in the PREP Multi-Component Evaluation is a random assignment evaluation which will expand available evidence on whether the replication of evidence-based effective programs, or the substantial incorporation of elements of these programs, funded as part of the Personal Responsibility Education Program, are effective at delaying sexual activity, increasing condom or contraceptive use for sexually active youth, or reducing pregnancy among youth. The evaluation will document and test a range of pregnancy prevention approaches in up to five program sites. The findings from the evaluation will be of interest to the general public, to policy-makers, and to organizations interested in teen pregnancy prevention.

This Federal Register Notice is to notify the public regarding Data Collection for the Baseline, Field Collection, and In-Depth Implementation Components of the Impact and In-Depth Implementation Evaluation of the Personal Responsibility Education Program (PREP) Multi-Component Evaluation.

Field Collection: The field collection activity involves the collection of information from observations of program activities and interviews with a range of experts and persons involved with programs about various aspects of existing prevention programs and topics the experts view as important to address through evaluation. These data will be used to help enhance decisions about the types of programs to be evaluated in the studies.

In-Depth Implementation: The implementation data collection activity as part of the in-depth implementation portion of the PREP Multi-Component Evaluation involves the collection of information from program records and site visits at two to three points in the program implementation period. Understanding the programs, documenting their implementation and context, and assessing fidelity of implementation will allow for description of each implemented program and the treatment-control contrast evaluated in each site. It will also help in interpreting impact findings, differences in impacts across programs, and differences in impacts across locations or population subgroups.

Baseline: The baseline data collection activity will present respondents with carefully selected questions about demographics and risk and protective factors related to teen pregnancy. Also proposed is a collection of school records, performance, and program participation for the youth. Information from this data collection will be used to perform meaningful analysis to determine significant program effects.

Respondents:

Field Clearance: Researchers; Policy Experts; State Level Coordinators; Program Directors; Program Staff; Program Participants; School Administrators.

In-Depth Implementation: General Staff; Community Members; Frontline Staff; Participating Youth; and Control Group Schools.

Baseline: Study participants (i.e., adolescents, and schools and organizations responsible for administrative data); Schools and Organizations.

Annual Burden Estimates
| Annual number of respondents | Number of responses per respondent | Average burden hours per response | Total burden hours
Field clearance instrument:
Discussion Guide for use with Researchers, Policy Experts, and State Level Coordinators | 10 | 1 | 1 | 10
Discussion Guide for Use with Program Directors | 20 | 2 | 2 | 80
Discussion Guide for Use with Program Staff | 40 | 1 | 2 | 80
Focus Group Discussion Guide for use with Program Participants | 100 | 1 | 1.5 | 150
Discussion Guide for Use with School Administrators | 70 | 1 | 1 | 70
Short Survey with Program Directors | 70 | 1 | 0.25 | 17.5
Short Survey with Program Staff | 140 | 1 | 0.25 | 35
Short Survey with School Administrators | 70 | 1 | 0.25 | 17.5
Estimated Annual Burden Sub-total for Field Clearance |  |  |  | 460
In-Depth Implementation Instrument:
Master Topic Guide Interviews for General Staff and Community Members | 40 | 1 | 1.5 | 60
Focus Group Discussion Guide with Frontline Staff | 30 | 1 | 1.5 | 45
Focus Group Discussion Guide with Participating Youths | 150 | 1 | 1.5 | 225
Focus Group Discussion Guide with Control Group Schools About Counterfactuals | 40 | 1 | 1 | 40
Estimated Annual Burden Sub-total for In-Depth Implementation |  |  |  | 370
Baseline Instrument:
Baseline Instrument for study participants | 2500 | 1 | .5 | 1250
Administrative Data Collection instrument for Schools and Organizations | 100 | 1 | 4 | 400
Estimated Annual Burden Sub-total for Baseline |  |  |  | 1650
TOTAL Estimated Annual Burden |  |  |  | 2640

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 9, 2011.
Steven M. Hanmer,
Reports Clearance Officer.

[FR Doc. 2011-5962 Filed 3-15-11; 8:45 am]

BILLING CODE 4184-37-M